DEPARTMENT OF COMMERCE

International Trade Administration

Proposed Information Collection; Comment Request; U.S. Commercial Service Brand Analysis and Strategy Survey

AGENCY: International Trade Administration, Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 30, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jennifer Kirsch; Phone: 202-482-5449; Fax: 202-482-5362; E-mail: Jennifer.Kirsch@mail.doc.gov.

SUPPLEMENTARY INFORMATION:

I. Abstract

Expanding U.S. exports is a national priority essential to improving U.S. trade performance. The Department of Commerce (DOC) International Trade Administration (ITA) U.S. Commercial Service (CS) serves as the key U.S. government agency responsible for promoting exports of goods and services from the United States, particularly by small- and medium-sized enterprises, and assisting U.S. exporters in their dealings with foreign governments. The Government Performance and Results Act of 1993 and the President's Management Agenda Fiscal Year 2002 mandate CS to improve program performance and achieve better results for the American people. In accordance with these mandates, the CS needs to address the weaknesses and opportunities for improvement identified by the Office of Management and Budget's 2003 Program Assessment Rating Tool (PART). To address these weaknesses and opportunities, to remain relevant to the marketplace, and to meet the objective of “broadening and deepening” the U.S. exporter base, the CS must increase its market penetration. To increase market penetration, U.S. companies have to (1) know about the CS and then (2) choose to work with the CS. Currently, there is no research available about CS awareness or purchasing behavior. The customer satisfaction and net promoter metrics that the CS have are only tied to existing customers and do not provide insights on how to increase market penetration and how to appeal to prospective customers. Implementing four new metrics: awareness, consideration, transaction, and loyalty, will provide the CS with the data it needs to provide a baseline for the CS brand and benchmark the CS against other organizations.

The CS has contracted with The Research Associates (TRA) to conduct surveys to understand awareness levels of the CS among U.S. companies and purchasing behaviors of U.S. companies. By understanding the attitudes and behaviors of U.S. companies regarding awareness and purchasing behaviors, the CS can increase awareness of the CS among customers and prospective customers; influence non-customers to consider working with the CS, encourage customers and prospective customers to buy from the CS, and create loyalty among these customers.

II. Method of Collection

Firms will be recruited via the telephone using lists obtained from third party vendors. Data collection will be conducted via a telephone survey and/or e-mail survey.

III. Data

OMB Control Number: None.

Form Number(s): None.

Type of Review: Regular submission.

Affected Public: Business or other for-profit organizations.

Estimated Number of Respondents: 400.

Estimated Time per Response: 15 minutes.

Estimated Total Annual Burden Hours: 100.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 25, 2008.
Gwellnar Banks,
Management Analyst, Office of the Chief Information Officer.

[FR Doc. E8-6487 Filed 3-28-08; 8:45 am]

BILLING CODE 3510-FP-P